ENVIRONMENTAL PROTECTION AGENCY

[ER-FRL-6654-6]

Environmental Impact Statements; Notice of Availability

Responsible Agency: Office of Federal Activities, General Information (202) 564-7167 or http://www.epa.gov/compliance/nepa/. Weekly receipt of Environmental Impact Statements Filed August 2, 2004 through August 6, 2004 Pursuant to 40 CFR 1506.9.

EIS No. 040367, DRAFT SUPPLEMENT, COE, PA, Wyoming Valley Levee Raising Project, Design Modification and Recreational Enhancements, Wilkes-Barre, Pennsylvania River Commons, Susquehanna River, Luzerne County, PA, Comment Period Ends: September 27, 2004, Contact: William Abadie (410) 962-4713.This document is available on the Internet at: http://www.nab.usace.army.mil/publications/non-reg_pub.htm.

EIS No. 040368, FINAL EIS, AFS, NM, Sacramento, Dry Canyon and Davis Grazing Allotments, Authorization of Livestock Grazing Activities, Lincoln National Forest, Sacramento Ranger District, Otero County, NM, Wait Period Ends: September 13, 2004, Contact: Frank R. Martinez (505) 682-2551.

EIS No. 040369, DRAFT EIS, AFS, MT, ID, WY, Grizzly Bear Conservation for the Greater Yellowstone Area National Forests, Implementation, Amend Six Forest Plans: Beaverhead-Deerlodge National Forest, Bridger-Teton National Forest, Caribour-Targhee National Forest and Shoshone National Forest, MT,WY and ID, Comment Period Ends: November 12, 2004, Contact: Dave Cawrse (307) 527-6241.

EIS No. 040370, FINAL EIS, NPS, TX, Big Bend National Park General Management Plan, Implementation, Brewster County, TX, Wait Period Ends: September 13, 2004, Contact: John Paige (915) 477-2251. This document is available on the Internet at: http://www.eh.doe.gov/nepa/documents.html.

EIS No. 040371, FINAL EIS, AFS, MN, Chippewa and Superior National Forests Land and Resource Management Plans Revision, Implementation, Beltrami, Cass, Itasca, Cook, Lake and St. Louis Counties, MN, Wait Period Ends: September 13, 2004, Contact: Duane Lula (218) 626-4300.

EIS No. 040372, DRAFT EIS, NPS, AL, Selma to Montgomery National Historic Trail Comprehensive Management Plan, Implementation, Dallas, Lowndes and Montgomery Counties, AL, Comment Period Ends: September 27, 2004, Contact: John Barrett (404) 562-3124.

EIS No. 040373, DRAFT EIS, USA, TX, Fort Bliss, Texas Proposed Leasing of Lands, Proposed Siting, Construction and Operation, by the City of El Paso of a Brackish Water Desalination Plant and Support Facilities, El Paso Water Utilities (EPWU), City of El Paso, TX and New Mexico, Comment Period Ends: September 27, 2004, Contact: John Barrera (915) 568-3908.

EIS No. 040374, FINAL EIS, AFS, OR, Davis Fire Recovery Project, Moving Resource Conditions Closer to the Desired Conditions, Deschutes National Forest, Crescent Ranger District, Deschutes and Klamath Counties, OR, Wait Period Ends: September 13, 2004, Contact: Chris Mickle (541) 433-3216.

EIS No. 040375, FINAL EIS, BLM, OR, Andrews Management Unit/Steens Mountain Cooperative Management and Protection Area Resource Management Plan, Implementation, Harney and Malheur Counties, OR, Wait Period Ends: September 13, 2004, Contact: Gary Foulkes (541) 573-4541.

EIS No. 040376, DRAFT EIS, FHW, OR, Spencer Creek Bridge U.S. Highway 101 Replacement Project, To Maintain the Connectivity and Highway Functions of U.S. 101 between Otter River and Watt Creek, Funding, Lincoln County, OR, Comment Period Ends: September 27, 2004, Contact: John Gernhauser (503) 399-5749.

EIS No. 040377, DRAFT EIS, AFS, WY, Yates Petroleum Federal #1 Oil and Gas Lease, Application for Permit To Drill (APD), Medicine Bow-Routt National Forests and Thunder Basin National Grassland, Duck Creek, Campbell County, WY, Comment Period Ends: September 27, 2004, Contact: Liz Moncrief (307) 745-2456.

EIS No. 040378, DRAFT SUPPLEMENT, NRC, AL, Generic EIS—License Renewal of Nuclear Plants, Joseph M. Farley Nuclear Plants, Units 1 and 2, Supplemental 18 to NUREG-1437, (TAC Nos. MCO768 and MCO769), Houston County, AL, Comment Period Ends: November 5, 2004, Contact: Jack Cushing (301) 415-1424.

EIS No. 040379, FINAL EIS, DOD, Programmatic EIS—Chemical and Biological Defense Program, Protection of our Soldiers, Sailors, Marines and Airmen on the Battlefield, United States and other Countries, Wait Period Ends: September 13, 2004, Contact: JoLane Souris (301) 619-2004.

Amended Notices

EIS No. 040339, DRAFT EIS, NPS, GA, Chattahoochee River National Recreation Area General Management Plan, Implementation, Chattahoochee River,Atlanta, GA, Comment Period Ends: November 15, 2004, Contact: Dave Elk (678) 538-1321. Revision of FR Notice Published on 7/30/04: CEQ Comment Period Ending 9/13/2004 has been Extended to 11/15/2004.

EIS No. 040350, DRAFT EIS, FAA, VA, Norfolk International Airport Project, Construction and Operation for the New Air Carrier Runway and Associated Improvements, 1995 Master Plan and the April 2004 Airport Layout Plan, Norfolk Airport Authority (NAA), Norfolk, VA, Comment Period Ends: September 20, 2004, Contact: Brad Mehaffy (703) 661-1364. Revision of FR Notice Published on 8/06/2004: Officially Withdrawn by the Preparing Agency by letter Dated 08/4/2004.

Dated: August 10, 2004.
B. Katherine Biggs,
Associate Director, NEPA Compliance Division, Office of Federal Activities.

[FR Doc. 04-18540 Filed 8-12-04; 8:45 am]

BILLING CODE 6560-50-P